DEPARTMENT OF EDUCATION

[Docket ID ED-2024-OFO-0047]

Privacy Act of 1974; System of Records

AGENCY: Office of Security, Facilities and Logistics, Office of Finance and Operations, U.S. Department of Education.

ACTION: Notice of a new system of records.

SUMMARY: In accordance with the Privacy Act of 1974, as amended (Privacy Act), the U.S. Department of Education (Department) publishes this notice of a new system of records titled “Integrated Workplace Management System (IWMS)” (18-03-08). The system will assist the Office of Finance and Operations, Office of Security, Facilities and Logistics (OSFL) in managing the Department's office space, including moving, and tracking the movement of, Government-furnished equipment and assigning Department personnel to designated office spaces; managing the Department's real estate portfolio; managing facility-related projects; and administering processes for reserving flexible workspaces, conference rooms, and other bookable resources, such as lockers and parking spaces.

DATES: Submit your comments on this new system of records notice on or before September 16, 2024.

This new system of records notice will become applicable upon publication in the Federal Register on August 16, 2024 unless it needs to be changed as a result of public comment. The routine uses outlined in the section titled “ROUTINE USES OF RECORDS MAINTAINED IN THE SYSTEM, INCLUDING CATEGORIES OF USERS AND PURPOSES OF SUCH USES” will become applicable on the expiration of the 30-day period of public comment on September 16, 2024, unless they need to be changed as a result of public comment. The Department will publish any significant changes to this new system of records notice or routine uses resulting from public comment.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using www.regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or aid, please contact the program contact person listed under FOR FURTHER INFORMATION CONTACT.

FOR FURTHER INFORMATION CONTACT: Barbara Shawyer, Information System Owner, Office of Security, Facilities and Logistics, Office of Finance and Operations, U.S. Department of Education, 400 Maryland Avenue SW, Room HQ-LBJ-2A225, Washington, DC 20202-6110. Telephone: (202) 320-4785. Email: Barbara.Shawyer@ed.gov.

If you are deaf, hard of hearing, or have a speech disability, please dial 7-1-1 to access telecommunications relay services.

SUPPLEMENTARY INFORMATION: The IWMS supports OSFL's management of the Department's office space, including moving, and tracking the movement of, Government-furnished equipment and assigning Department personnel to designated office spaces; managing the Department's real estate portfolio; managing facility-related projects; and administering processes for reserving flexible workspaces, conference rooms, and other bookable resources, such as lockers and parking spaces. The IWMS' new system of records will provide OSFL with the ability to prepare, execute, and track building modifications (e.g., space configurations and facility equipment), and generate internal and external reports regarding Department facilities and office space. More specifically, OSFL will use the IWMS to produce various reports for internal and external audiences, which may include information such as building demographics, space utilization, capital plans, total square feet, rentable square feet (RSF), usable square feet (USF), and space types; lease/operating agreement data; and improvements and/or changes to the leased building portfolios (e.g., reduce the footprint metrics).

The IWMS will also provide OSFL staff with a web-based system to allow Department employees and contractors to reserve conference rooms, flexible workspaces and other bookable resources. OSFL staff will administer the new system of records and can identify and make space available for reservation. Further, IWMS will allow OSFL staff to manage workplace data (e.g., floorplans, space data (including attributes like capacity, square feet, and quantity), occupancy, and space types (e.g., conference room, office, training center, workstation, or warehouse)). For instance, OSFL staff will have the ability to generate reports that provide details on the capacity to assist with space planning efforts.

The IWMS consists of two components: (1) a desktop application accessed by OSFL staff that creates two- and three-dimensional drawings, models, and diagrams, for uploading workspace layout; and (2) a web application that Department employees and contractors can use to reserve desks and meeting/conference spaces. Reservation of these spaces will be integrated with Microsoft Outlook, allowing reservations to appear on users' calendars and users to modify the reservation and set reminders and alerts. Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Richard J. Lucas,
Principal Deputy Assistant Secretary, Delegated the Authority to Perform the Functions and Duties of the Assistant Secretary, Office of Finance and Operations.

For the reasons discussed in the preamble, the Principal Deputy Assistant Secretary, Delegated the Authority to Perform the Functions and Duties of the Assistant Secretary for the Office of Finance and Operations of the U.S. Department of Education (Department) publishes a new system of records notice to read as follows:

SYSTEM NAME AND NUMBER:

Integrated Workplace Management System (IWMS) (18-03-08).

SECURITY CLASSIFICATION:

Unclassified.

SYSTEM LOCATION:

U.S. Department of Education, Office of Security, Facilities and Logistics, Office of Finance and Operations, 400 Maryland Avenue SW, Washington, DC 20202-6110.

FM:Systems, 2301 Sugar Bush Road, Suite 500, Raleigh, NC 27612. (Note: FM:Systems is a Department contractor that hosts the infrastructure that supports the IWMS applications (FMS:Employee and FMS:Workplace), as a Software-as-a-Service (SaaS), including backend application processing and data hosting.)

SYSTEM MANAGER(S):

Information System Owner, Office of Security, Facilities and Logistics, Office of Finance and Operations, U.S. Department of Education, 400 Maryland Avenue SW, Room HQ-LBJ-2A225, Washington, DC 20202-6110.

AUTHORITY FOR MAINTENANCE OF THE SYSTEM:

Executive Order 12411, “Government Work Space Management Reforms” (Mar. 29, 1983).

PURPOSE(S) OF THE SYSTEM:

The purposes of this system of records are to assist the Office of Finance and Operations, Office of Security, Facilities and Logistics (OSFL) in managing the Department's office space, including moving, and tracking the movement of, Government-furnished equipment and assigning Department personnel to designated office spaces; managing the Department's real estate portfolio; managing facility-related projects; and administering processes for reserving flexible workspaces, conference rooms, and other bookable resources, such as lockers and parking spaces.

CATEGORIES OF INDIVIDUALS COVERED BY THE SYSTEM:

Current Department employees and contractors.

CATEGORIES OF RECORDS IN THE SYSTEM:

The categories of records in the system are comprised of information related to current Department employees and contractors, such as their first name, last name, work email address, physical work address, work telephone number, principal office, organizational code, position, pay plan and grade, and supervisory status.

RECORD SOURCE CATEGORIES:

Records covered by the system of records notice titled “Federal Personnel Payroll System” (18-05-03), last published in the Federal Register on December 27, 1999 (64 FR 72389-72391) will be obtained from the Department's Office of Human Resources and then updated by Department employees and contractors, as appropriate. The records provided from FPPS is stored in IWMS and is used by the program office to assist with the assignment of office space. Records in this system also may be obtained from other persons or entities from whom or from which data is obtained under the routine uses set forth below.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act of 1974, as amended (Privacy Act) (5 U.S.C. 552a), under a computer matching agreement.

(1) Congressional Member Disclosure. The Department may disclose the records of an individual to a member of Congress or the member's staff when necessary to respond to an inquiry from the member made at the written request of and on behalf of the individual. The member's right to the information is no greater than the right of the individual who requested it.

(2) Enforcement Disclosure. In the event that information in this system of records indicates, either on its face or in connection with other information, a violation or potential violation of any applicable statute, regulations, or order of a competent authority, the Department may disclose the relevant records to the appropriate agency, whether Federal, State, Tribal, or local, charged with investigating or prosecuting that violation or charged with enforcing or implementing the statute, Executive Order, rule, regulation, or order issued pursuant thereto.

(3) Litigation and Alternative Dispute Resolution (ADR) Disclosure.

(a) Introduction. In the event that one of the following parties listed in sub-paragraphs (i) through (v) of this routine use is involved in judicial or administrative litigation or ADR, or has an interest in judicial or administrative litigation or ADR, the Department may disclose certain records from this system of records to the parties described in paragraphs (b), (c), and (d) of this routine use under the conditions specified in those paragraphs:

(i) The Department or any of its components;

(ii) Any Department employee in their official capacity;

(iii) Any Department employee in their individual capacity where the U.S. Department of Justice (DOJ) agrees to or has been requested to provide or arrange for representation of the employee;

(iv) Any Department employee in their individual capacity where the Department has agreed to represent the employee; and

(v) The United States, where the Department determines that the litigation is likely to affect the Department or any of its components.

(b) Disclosure to DOJ. If the Department determines that disclosure of certain records to DOJ is relevant and necessary to judicial or administrative litigation or ADR, the Department may disclose those records as a routine use to DOJ.

(c) Adjudicative Disclosure. If the Department determines that disclosure of certain records to an adjudicative body before which the Department is authorized to appear or to a person or entity designated by the Department or otherwise empowered to resolve or mediate disputes is relevant and necessary to judicial or administrative litigation or ADR, the Department may disclose those records as a routine use to the adjudicative body, person, or entity.

(d) Disclosure to Parties, Counsel, Representatives, and Witnesses. If the Department determines that disclosure of certain records is relevant and necessary to the judicial or administrative litigation or ADR, the Department may disclose those records as a routine use to the party, counsel, representative, or witness.

(4) Freedom of Information Act (FOIA) or Privacy Act Advice Disclosure. The Department may disclose records to the DOJ or to the Office of Management and Budget (OMB) if the Department determines that disclosure is desirable or necessary in determining whether particular records are required to be disclosed under the FOIA or the Privacy Act.

(5) Disclosure to DOJ. The Department may disclose records to DOJ to the extent necessary for obtaining DOJ advice on any matter relevant to an audit, inspection, or other inquiry related to this system.

(6) Contract Disclosure. If the Department contracts with an entity to perform any function that requires disclosing records in this system to employees of the contractor, the Department may disclose the records to those employees. As part of such contract, the Department shall require the contractor to agree to establish and maintain safeguards to protect the security and confidentiality of the disclosed records.

(7) Employee Grievance, Complaint, or Conduct Disclosure. If a record is relevant and necessary to an employee grievance, complaint, or disciplinary action involving a present or former employee of the Department, the Department may disclose a record from this system of records in the course of investigation, fact-finding, or adjudication to any party to the grievance, complaint, or action; to the party's counsel or representative; to a witness; or to a designated fact-finder, mediator, or other person designated to resolve issues or decide the matter.

(8) Labor Organization Disclosure. The Department may disclose records from this system of records to an arbitrator to resolve disputes under a negotiated grievance procedure or to officials of labor organizations recognized under 5 U.S.C. chapter 71 when relevant and necessary to their duties of exclusive representation.

(9) Employment, Benefit, and Contracting Disclosure.

(a) For Decisions by the Department. The Department may disclose a record to a Federal, State, Tribal, or local agency, or to another public authority or professional organization, maintaining civil, criminal, or other relevant enforcement or other pertinent records, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, Tribal, local, or other public authority or professional organization, in connection with the hiring or retention of an employee or other personnel action, the issuance of a security clearance, the reporting of an investigation of an employee, the letting of a contract, or the issuance of a license, grant, or other benefit, to the extent that the record is relevant and necessary to the receiving entity's decision on the matter.

(10) Disclosure in the Course of Responding to a Breach of Data. The Department may disclose records from this system of records to appropriate agencies, entities, and persons when (a) the Department suspects or has confirmed that there has been a breach of the system of records; (b) the Department has determined that as a result of the suspected or confirmed breach, there is a risk of harm to individuals, the Department (including its information systems, programs, and operations), the Federal government, or national security; and (c) the disclosure made to such agencies, entities, and persons is reasonably necessary to assist in connection with the Department's efforts to respond to the suspected or confirmed breach or to prevent, minimize, or remedy such harm.

(11) Disclosure in Assisting Another Agency in Responding to a Breach of Data. The Department may disclose records from this system of records to another Federal agency or Federal entity when the Department determines that information from this system of records is reasonably necessary to assist the recipient agency or entity in (a) responding to a suspected or confirmed breach, or (b) preventing, minimizing, or remedying the risk of harm to individuals, the recipient agency or entity (including its information systems, programs, and operations), the Federal Government, or national security, resulting from a suspected or confirmed breach.

(12) Disclosure to National Archives and Records Administration (NARA). The Department may disclose records from this system of records to NARA for the purpose of records management inspections conducted under the authority of 44 U.S.C. 2904 and 2906.

POLICIES AND PRACTICES FOR STORAGE OR RECORDS:

Records are stored on an encrypted system within a secured and controlled environment.

POLICIES AND PRACTICES FOR RETRIEVAL OF RECORDS:

Records are retrieved by an employee's or contractor's name only for administrative purposes, including associating the employee or contractor with a specific region or building to assign them an office space or conference room.

POLICIES AND PRACTICES FOR RETENTION AND DISPOSAL OF RECORDS:

The records in this system of records will be retained and disposed of in accordance with General Records Schedule 5.4, “Facility, Equipment, Vehicle, Property, and Supply Records,” Items 010 (DAA-GRS-2016-0011-0001) and 050 (DAA-GRS-2016-0011-0005).

ADMINISTRATIVE, TECHNICAL, AND PHYSICAL SAFEGUARDS:

The vendor, which is Federal Risk and Authorization Management Program (FedRAMP) certified, hosts the IWMS system outside the Department's network. The Department accesses and uses this system as a SaaS and requires the vendor to complete routine testing of its environment to ensure the confidentiality, integrity, and availability of the information in the system and services provided. The Cloud Service Provider enforces security controls over the physical facility where the system is hosted in adherence with FedRAMP standards and provides continuous monitoring reports to the Department.

In accordance with the Federal Information Security Management Act of 2002 (FISMA), as amended by the Federal Information Security Modernization Act of 2014, every Department system must receive a signed Authorization to Operate (ATO) from a designated Department official. The ATO process includes a rigorous assessment of security and privacy controls, a plan of actions and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

The IWMS system is integrated with the Department's Identity, Credential, and Access Management (ICAM) and also utilizes role-based authentication to ensure that only authorized users can access information, and can only access the information needed to perform their duties. Authentication to the system is permitted only over secure, encrypted connections.

RECORD ACCESS PROCEDURES:

If you wish to request access to records regarding you in this system of records, contact the system manager at the address listed under the SYSTEM MANAGER(S) section above. You must provide necessary particulars such as your full name, address, and telephone number, and any other identifying information requested by the Department while processing the request to distinguish between individuals with the same name. Your request must meet the requirements of the Department's Privacy Act regulations in 34 CFR 5b.5, including proof of identity.

CONTESTING RECORD PROCEDURES:

If you wish to contest the content of a record regarding you in this system of records, contact the system manager at the address listed under the SYSTEM MANAGER(S) section above. You must provide necessary particulars such as your full name, address, and telephone number, and any other identifying information requested by the Department to distinguish between individuals with the same name. Your request must also identify the particular record within the system that you wish to have changed, state whether you seek an addition to or a deletion or substitution of the record, and explain the reasons why you wish to have the record changed. Your request must meet the requirements of the Department's Privacy Act regulations in 34 CFR 5b.7.

NOTIFICATION PROCEDURES:

If you wish to determine whether a record exists regarding you in this system of records, contact the system manager at the address listed under the SYSTEM MANAGER(S) section above. You must provide necessary particulars such as your full name, address, telephone number, and any other identifying information requested by the Department while processing the request to distinguish between individuals with the same name. Your request must meet the requirements of the Department's Privacy Act regulations in 34 CFR 5b.5, including proof of identity.

EXEMPTIONS PROMULGATED FOR THE SYSTEM:

None.

HISTORY:

None.

[FR Doc. 2024-18334 Filed 8-15-24; 8:45 am]

BILLING CODE 4000-01-P